DEPARTMENT OF THE INTERIOR

Bureau of Indian Affairs

[201A2100DD/AAKC001030/A0A501010.999900 253G]

Advisory Board for Exceptional Children

AGENCY: Bureau of Indian Affairs, Interior.

ACTION: Notice of Meeting.

SUMMARY: The Bureau of Indian Education (BIE) is announcing that the Advisory Board for Exceptional Children is holding an upcoming meeting to meet the mandates of the Individuals with Disabilities Education Act of 2004 (IDEA) for Indian children with disabilities. Due to the COVID-19 pandemic and for the safety of all individuals, the meeting will be held online. DATES: The BIE Advisory Board meeting will be held Wednesday, September 30, 2020 from 8 a.m. to 3:30 p.m. Pacific Daylight Time (PDT).

ADDRESSES: All Advisory Board activities and meetings will be conducted online. See the SUPPLEMENTARY INFORMATION section of this notice for directions on joining. Public comments can also be emailed to the DFO at Jennifer.davis@indianaffairs.gov; or faxed to (602) 265-0293 Attention: Jennifer Davis, DFO; or mailed or hand delivered to the Bureau of Indian Education, Attention: Jennifer Davis, DFO, 2600 N Central Ave. Suite 800, Phoenix, AZ 85004.

FOR FURTHER INFORMATION CONTACT: Jennifer Davis, Designated Federal Officer, Bureau of Indian Education, 2600 N Central Ave. Suite 800, Phoenix, AZ 85004, email at Jennifer.davis@indianaffairs.gov or telephone numbers (202) 860-7845 or (602) 240-8597.

SUPPLEMENTARY INFORMATION: In accordance with the Federal Advisory Committee Act, the BIE is announcing that the Advisory Board will hold its next meeting online. The Advisory Board was established under the Individuals with Disabilities Act of 2004 (20 U.S.C. 1400 et seq.) to advise the Secretary of the Interior, through the Assistant Secretary-Indian Affairs, on the needs of Indian children with disabilities. The meeting is open to the public.

The following items will be on the agenda:

• Navajo Region Schools—Special Education Update Report.

• Work on 2020 Annual Report.

• Public Comments (via teleconference call, Wednesday, September 30, 2020).

How to Join the Meeting

You can join the meeting in any of the following ways:

• From your computer, tablet or smartphone * using https://global.gotomeeting.com/join/940105053; or

• Dial in using your phone, United States: +1 (571) 317-3122 and Access Code: 940-105-053; or

• From a video-conferencing room or system by dialing in or typing: 67.217.95.2 or inroomlink.goto.com, Meeting ID: 940 105 053, or dialing directly: 940105053@67.217.95.2 or 67.217.95.2##940105053.

* If you are new to GoToMeeting you can get the app by using this link: https://global.gotomeeting.com/install/940105053.

Opportunity for Public To Comment

During the September 30, 2020 meeting, time has been set aside for public comments via webinar or telephone conference call from 9:15 p.m. to 9:45 p.m. Pacific Daylight Time. To join the meeting, follow the directions listed above. You may also submit comments in writing to the individual listed in the ADDRESSES section of this notice.

Authority

This notice is published under the authority of 5 U.S.C. Appendix 5; 20 U.S.C. 1400 et seq.

Tara Sweeney,
Assistant Secretary, Indian Affairs.

[FR Doc. 2020-20185 Filed 9-11-20; 8:45 am]

BILLING CODE 4337-15-P